Proclamation 9703 of March 2, 2018

National Consumer Protection Week, 2018

By the President of the United States of America

A Proclamation

A vibrant economy, fueled by consumer confidence, is at the heart of American prosperity. Fraudulent and deceptive practices erode the marketplace, cost consumers billions of dollars each year, and undermine the well-being of Americans and their families. During National Consumer Protection Week, we focus on the importance of safeguarding and strengthening our economic health through consumer education and fraud prevention.

American consumers must be alert for a broad range of scams and schemes, including identity theft, cybersecurity breaches, and charity fraud, all of which can destroy credit, diminish lifelong savings, and erode financial security and confidence. All consumers are vulnerable to financial exploitation, but depraved scammers often target the elderly. Such fraud can rob victims of their dignity and confidence, in addition to their resources. For this reason, I signed into law the Elder Abuse Prevention and Prosecution Act, which increases penalties for criminals who target older Americans.

Imposter fraud is one of the fastest-growing scams today. It takes many forms and affects Americans of all ages, but the goal is always the same: to steal money after gaining the trust of an unsuspecting consumer. Imposters pose as bank representatives, government organizations, State lottery officials, first responders, Internal Revenue Service agents, technical support personnel, and shamelessly and cruelly, loved ones in distress. A growing number of imposter fraudsters claim affiliation with the military in an effort to trick service members or veterans into sharing sensitive personal or financial information. These con artists often convince people to send money or to provide access to their computers, which can turn out to be financially and personally devastating.

National Consumer Protection Week is an opportunity for Americans to learn about their consumer rights so they can make better-informed financial decisions, avoid predatory practices, and protect their families from fraud and abuse. The Federal Government, in conjunction with a network of national organizations and State and local partners, provides information and resources that help Americans avoid, report, or recover from fraud and identity theft. I encourage all Americans to take this week to learn about how they can protect themselves and their families and defend their personal information from the growing number of online threats. The best weapon against fraud and extortion is a well-informed consumer. Together, we can work toward preserving economic prosperity and protecting personal financial security.

NOW, THEREFORE, I, DONALD J. TRUMP, President of the United States of America, by virtue of the authority vested in me by the Constitution and the laws of the United States, do hereby proclaim March 4 through March 10, 2018, as National Consumer Protection Week. I encourage individuals, businesses, organizations, government agencies, and community groups to take advantage of the broad array of online resources offered by the Federal Trade Commission, and to share this information through consumer education activities in communities across the country.

IN WITNESS WHEREOF, I have hereunto set my hand this second day of March, in the year of our Lord two thousand eighteen, and of the Independence of the United States of America the two hundred and forty-second.

[FR Doc. 2018-04887

3-7-18; 11:15 am]

Billing code 3295-F8-P